DEPARTMENT OF ENERGY

Federal Energy Regulatory Commission

Combined Notice of Filings

Take notice that the Commission has received the following Natural Gas Pipeline Rate and Refund Report filings:

Filings Instituting Proceedings

Docket Numbers: PR21-66-000.

Applicants: Louisville Gas and Electric Company.

Description: Submits tariff filing per 284.123(b),(e)/: Operating Statement Rate Change Revised Exhibit A to be effective 9/1/2021 under PR21-66.

Filed Date: 9/28/21.

Accession Number: 20210928-5041.

Comments/Protests Due: 5 p.m. ET 10/19/21.

Docket Numbers: PR21-67-000.

Applicants: Columbia Gas of Ohio, Inc.

Description: Submits tariff filing per 284.123(b),(e)/: COH Rates effective August 27 2021 to be effective 8/27/2021 under PR21-67.

Filed Date: 9/30/21.

Accession Number: 202109305090.

Comments/Protests Due: 5 p.m. ET 10/21/21.

Docket Numbers: PR22-1-000.

Applicants: Permian Highway Pipeline LLC.

Description: Submits tariff filing per 284.123(b),(e)/: PHP Fuel Filing 2021.10.01 to be effective 10/1/2021 under PR22-1.

Filed Date: 10/1/2021.

Accession Number: 202110015136.

Comments/Protests Due: 5 p.m. ET 10/22/21.

Docket Numbers: RP22-26-000.

Applicants: Transcontinental Gas Pipe Line Company, LLC.

Description: § 4(d) Rate Filing: List of Non-Conforming Service Agreements (ASR et al—Six One Commodities) to be effective 11/5/2021.

Filed Date: 10/5/21.

Accession Number: 20211005-5024.

Comments Date: 5 p.m. ET 10/18/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2021.
Debbie-Anne A. Reese,
Deputy Secretary.

[FR Doc. 2021-22218 Filed 10-12-21; 8:45 am]

BILLING CODE 6717-01-P